ENVIRONMENTAL PROTECTION AGENCY

[ER-FRL-8594-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 17, 2009 (74 FR 17860).

Draft EISs

EIS No. 20090032, ERP No. D1-FHW-F40446-IN, I-69 Evansville to Indianapolis, Indiana Projec t, Section 3, Washington to Crane NSWC (US 50 to US 231), Daviess, Greene, Knox and Martin Counties, IN.

Summary: While EPA has no objections to the proposed action, it did request clarification on some air quality, floodplain and watershed/wetland issues. Rating LO.

EIS No. 20090061, ERP No. D-AFS-L65568-OR, D-Bug Hazard Reduction Timber Sales Project, To Lessen the Fuel and Safety Hazards Associated with the On-going Outbreak of Mountain Pine Beetles, Diamond Lake Ranger District, Umpqua National Forest, Douglas County, OR.

Summary: EPA does not object to the proposed project. Rating LO.

EIS No. 20090101, ERP No. D-AFS-K65360-CA, Lake Tahoe Basin Management Unit South Shore Fuel Reduction and Healthy Forest Restoration, To Manage Fuel Reduction and Forest Health in the Wildland Urban Intermit (WUI), El Dorado County, CA.

Summary: EPA expressed environmental concerns about water quality monitoring, cumulative watershed effects, and impacts to stream environment zones (SEZs). EPA recommended consideration of an alternative that further reduces adverse effects on SEZs and watersheds already over the cumulative watershed effects threshold. Rating EC2.

EIS No. 20090112, ERP No. D-NPS-K65362-00, Long Walk National Historic Trail Feasibility Study, To Evaluate the Suitability and Feasibility of Designating the Routes, Implementation, Apache, Coconino, Navajo Counties, AZ; Bernalillo, Cibola, De Baca, Guadalupe, Lincoln, McKinley, Mora, Otero, Santa Fe, Sandoval, Torrance, Valencia Counties, NM.

Summary: EPA does not object to the preferred plan of action. Rating LO.

EIS No. 20090117, ERP No. D-COE-E39078-FL, C-111 Spreader Canal Western Project, To Restore Ecosystem Function in Taylor Slough and Florida Bay Areas, Central and Southern Florida Project, Comprehensive Everglades Restoration Plan (CERP), Everglades National Park, Miami-Dade County, FL.

Summary: While EPA has no objections to the proposed action, it did request clarification of some water quality issues. Rating LO.

EIS No. 20090125, ERP No. D-SFW-K99042-AZ, Town of Marana Habitat Conservation Plan, Issuance of an Incidental Take Permit (ITP) to Authorize the Incidental Take of Species Protected by the Endangered Species Act (ESA), Pima County, AZ.

Summary: EPA expressed environmental objections due to the inclusion of incidental take coverage of bank stabilization activities for the remaining unmodified banks of the Santa Cruz River. Rating EO2.

EIS No. 20090056, ERP No. DB-TPT-K61154-CA, Presidio Trust Management Plan (PTMP), Updated Information on the Preferred Alternative for the Main Post District of the Presidio of San Francisco, Implementation, City and County of San Francisco, CA.

Summary: EPA expressed environmental concerns about air emissions from demolition and construction activities, and recommended the Final EIS provide emissions projections for these activities and additional information on mitigation measures. Rating EC2.

EIS No. 20080489, ERP No. DR-DOE-C06012-NY, West Valley Demonstration Project and Western New York Nuclear Service Center Decommissioning and/or Long-Term Stewardship, (DOE/EIS-0226-D Revised) City of Buffalo, Eric and Cattaraugus Counties, NY.

Summary: EPA expressed environmental concerns about air quality, sole source aquifer and surface water impacts. Rating EC1.

Final EISs

EIS No. 20090163, ERP No. F-NPS-J61113-SD, Minuteman Missile National Historic Site, General Management Plan, Implementation, Jackson and Pennington Counties, SD.

Summary:No formal comment letter was sent to the preparing agency.

Dated: June 16, 2009.
Robert W. Hargrove,
Director, NEPA Compliance Division, Office of Federal Activities.

[FR Doc. E9-14463 Filed 6-18-09; 8:45 am]

BILLING CODE 6560-50-P